DEPARTMENT OF STATE

[Public Notice 5224]

International Joint Commission Announcement of Public Meetings

Review of the Great Lakes Water Quality Agreement

The governments of the United States and Canada have asked the International Joint Commission (IJC) to consult with the residents of the Great Lakes and St. Lawrence River basin to find out their views on what needs to be done to protect water quality in their area, and on the future of the Great Lakes Water Quality Agreement.

The Great Lakes Water Quality Agreement between Canada and the United States expresses the commitment of each country to restore and maintain the chemical, physical and biological integrity of the waters of the Great Lakes basin ecosystem, including the international portion of the St. Lawrence River.

The governments intend to launch a review of the operation and effectiveness of the Agreement in early 2006. The Agreement was first signed in 1972 and last amended in 1987.

The International Joint Commission is holding 14 public meetings across the Great Lakes and St. Lawrence River basin, conducting a Web Dialogue from November 29 to December 2 and accepting written and oral submissions until November 30. For more information, call toll-free at 1 866 813-0642 or visit http://www.ijc.org/glconsultations.

• Monday, October 17 at 7 p.m. in Montréal, Quebec, at City Hall, 275 Notre-Dame Street East

• Monday, October 24 at 7 p.m. in Duluth, Minnesota, at the Central Hillside Community Center, 12 East 4th Street

• Tuesday, October 25 at 7 p.m. in Thunder Bay, Ontario, at City Hall, 500 Donald Street East

• Thursday, October 27 at 7 p.m. in Sault Ste Marie, Ontario, in the City Council Chamber at the Civic Centre, 99 Foster Drive

• Tuesday, November 1 at 7 p.m. in Bay City, Michigan, at City Hall, 301 Washington Avenue

• Tuesday, November 1 at 7 p.m. in Green Bay, Wisconsin, at the KI Convention Center, 333 Main Street

• Wednesday, November 2 at 7 p.m. in Chicago, Illinois, in the Phelps Auditorium at the Shedd Aquarium, 1200 South Lake Shore Drive

• Wednesday, November 2 at 3 p.m. in Detroit, Michigan, at the Detroit Regional Chamber of Commerce, One Woodward Avenue, Suite 1900

• Wednesday, November 2 at 7 p.m. in Windsor, Ontario, at the Cleary International Centre, 201 Riverside Drive West

• Thursday, November 3, at 7 p.m. in Cleveland, Ohio, in the Rotunda of City Hall, 601 Lakeside Avenue

• Tuesday, November 8 at 7 p.m. in Quebec City, Quebec, at City Hall, 2 rue des Jardins

• Tuesday, November 8 at 7 p.m. in Midland, Ontario, in the Council Chamber at the Municipal Building, 575 Dominion Avenue

• Wednesday, November 9 at 7 p.m. in Toronto, Ontario, at City Hall, 100 Queen Street West

• Thursday, November 10 at 7:30 p.m. in Rochester, New York, in the City Council Chambers at City Hall, 30 Church Street

Dated: November 7, 2005.
Elizabeth C. Bourget,
Secretary, United States Section, International Joint Commission, Department of State.

[FR Doc. 05-22542 Filed 11-10-05; 8:45 am]

BILLING CODE 4710-14-P